NUCLEAR REGULATORY COMMISSION

Correction to Biweekly Notice Applications and Amendments to Operating Licenses Involving No Significant Hazards Consideration

On March 5, 2002 (67 FR 10006), the Federal Register published the “Biweekly Notice of Applications and Amendments to Operating Licenses Involving No Significant Hazards Considerations.” On pages 10017 and 10018, for Duke Energy Corporation, et al., Catawba Nuclear Station, Units 1 and 2, “Amendment Nos. 195 and 188” should read “Amendment Nos. 194 and 187.”

For the Nuclear Regulatory Commission.
Dated at Rockville, Maryland, this 6th day of March 2002.
John A. Zwolinski,
Director, Division of Licensing Project Management, Office of Nuclear Reactor Regulation.

[FR Doc. 02-6038 Filed 3-12-02; 8:45 am]

BILLING CODE 7590-01-P